DEPARTMENT OF DEFENSE

Office of the Secretary

Defense Health Board; Notice of Federal Advisory Committee Meeting

AGENCY: Department of Defense (DoD).

ACTION: Notice of Federal Advisory Committee meeting.

SUMMARY: The Department of Defense is publishing this notice to announce that the following Federal Advisory Committee meeting of the Defense Health Board will take place.

DATES:

Monday, November 9, 2015

9:30 a.m.-11:30 a.m. (Open Session)

11:30 a.m.-12:30 p.m. (Administrative Working Meeting)

12:30 p.m.-5:00 p.m. (Open Session)

ADDRESSES: Davis Conference Center, 7633 Bayshore Boulevard, MacDill Air Force Base, Florida 33621 (Pre-meeting screening and registration required; see guidance in SUPPLEMENTARY INFORMATION, “Public's Accessibility to the Meeting”).

FOR FURTHER INFORMATION CONTACT: The Executive Director of the Defense Health Board is Ms. Christine Bader, 7700 Arlington Boulevard, Suite 5101, Falls Church, Virginia 22042, (703) 681-6653, Fax: (703) 681-9539, christine.e.bader.civ@mail.mil. For meeting information, please contact Ms. Kendal Brown, 7700 Arlington Boulevard, Suite 5101, Falls Church, Virginia 22042, kendal.l.brown2.ctr@mail.mil, (703) 681-6670, Fax: (703) 681-9539.

SUPPLEMENTARY INFORMATION: This meeting is being held under the provisions of the Federal Advisory Committee Act of 1972 (5 U.S.C., Appendix, as amended), the Government in the Sunshine Act of 1976 (5 U.S.C. 552b, as amended), and 41 CFR 102-3.150, and in accordance with section 10(a)(2) of the Federal Advisory Committee Act.

Additional information, including the agenda and electronic registration, is available at the DHB Web site, http://www.health.mil/About-MHS/Other-MHS-Organizations/Defense-Health-Board/Meetings.

Purpose of the Meeting

The purpose of the meeting is to conduct a decision briefing for deliberation and provide progress updates on specific taskings before the DHB. In addition, the DHB will receive information briefings on current issues or lessons learned related to military medicine, health policy, health research, disease/injury prevention, health promotion, and healthcare delivery.

Agenda

Pursuant to 5 U.S.C. 552b, as amended, and 41 CFR 102-3.140 through 102-3.165 and subject to availability of space, the DHB meeting is open to the public from 9:30 a.m. to 11:30 a.m. and 12:30 p.m. to 5:00 p.m. on November 9, 2015. The DHB anticipates deliberating a decision briefing from the Neurological/Behavioral Health Subcommittee regarding Population Normative Values for Post-Concussive Computerized Neurocognitive Assessments. In addition, information briefings will be presented on mental health treatment collaboration with the James A. Haley Veterans' Hospital, Sustained Medical and Readiness Training (SMART), medical evaluation boards, an update on the work of the Joint Committee to Create a National Policy to Enhance Survivability from Intentional Mass-Casualty and Active Shooter Events, and medical implications of anti-access/area denial.

Public's Accessibility to the Meeting

Pursuant to 5 U.S.C. 552b, as amended, and 41 CFR 102-3.140 through 102-3.165 and subject to availability of space, this meeting is open to the public. Seating is limited and is on a first-come basis. All members of the public who wish to attend the public meeting must contact Ms. Kendal Brown at the number listed in the section FOR FURTHER INFORMATION CONTACT no later than 12:00 p.m. on Friday, October 30, 2015 to register and must provide their driver's license number and social security number to Ms. Brown. Public attendees enter MacDill AFB through the Dale Mabry Gate. Attendees should allow one hour for the security check and travel to meeting location. Additional details will be provided to all registrants.

Special Accommodations

Individuals requiring special accommodations to access the public meeting should contact Ms. Kendal Brown at least five (5) business days prior to the meeting so that appropriate arrangements can be made.

Written Statements

Any member of the public wishing to provide comments to the DHB may do so in accordance with 41 CFR 102-3.105(j) and 102-3.140 and section 10(a)(3) of the Federal Advisory Committee Act, and the procedures described in this notice.

Individuals desiring to provide comments to the DHB may do so by submitting a written statement to the DHB Designated Federal Officer (DFO) (see FOR FURTHER INFORMATION CONTACT). Written statements should not be longer than two type-written pages and address the following details: the issue, discussion, and a recommended course of action. Supporting documentation may also be included, as needed, to establish the appropriate historical context and to provide any necessary background information.

If the written statement is not received at least five (5) business days prior to the meeting, the DFO may choose to postpone consideration of the statement until the next open meeting.

The DFO will review all timely submissions with the DHB President and ensure they are provided to members of the DHB before the meeting that is subject to this notice. After reviewing the written comments, the President and the DFO may choose to invite the submitter to orally present their issue during an open portion of this meeting or at a future meeting. The DFO, in consultation with the DHB President, may allot time for members of the public to present their issues for review and discussion by the Defense Health Board.

Dated: October 20, 2015.
Morgan F. Park,
Alternate OSD Federal Register Liaison Officer, Department of Defense.

[FR Doc. 2015-27011 Filed 10-22-15; 8:45 am]

BILLING CODE 5001-06-P